ENVIRONMENTAL PROTECTION AGENCY

[FRL-9747-6]

Farm, Ranch, and Rural Communities Committee

AGENCY: Environmental Protection Agency (EPA).

ACTION: Notice of cancellation of teleconference.

SUMMARY: EPA announced in the Federal Register on October 3, 2012 [FRL-9737-3] a Farm, Ranch, and Rural Communities Committee (FRRCC) Teleconference to be held on October 22, 2012. Under the Federal Advisory Committee Act, Public Law 92463, EPA gives notice of cancellation of that public meeting for the Farm, Ranch, and Rural Communities Committee (FRRCC). The FRRCC provides policy advice, information, and recommendations to the EPA Administrator on a range of environmental issues and policies that are of importance to agriculture and rural communities. The purpose of this teleconference was to discuss specific topics of relevance for consideration by the Committee in order to provide advice and insights to the Agency on environmental policies and programs that affect and engage agriculture and rural communities.

FOR FURTHER INFORMATION CONTACT: Alicia Kaiser, Designated Federal Officer, kaiser.alicia@epa.gov, 202-564-7273, U.S. EPA, Office of the Administrator (1101A), 1200 Pennsylvania Avenue NW., Washington, DC 20460.

Dated: October 17, 2012.
Alicia Kaiser,
Designated Federal Officer.

[FR Doc. 2012-26527 Filed 10-26-12; 8:45 am]

BILLING CODE 6560-50-P